DEPARTMENT OF THE INTERIOR

Bureau of Land Management

[UT070-1610-011J]

Notice of Availability for the Draft Resource Management Plan (RMP) and Environmental Impact Statement (EIS) for the Price Field Office Planning Area in Carbon and Emery Counties, UT

AGENCY: Bureau of Land Management, Interior.

ACTION: Notice of availability.

SUMMARY: In accordance with the National Environmental Policy Act (NEPA) of 1969, the Federal Land Policy and Management Act of 1976 (FLPMA), and regulatory requirements, a Draft RMP/EIS has been prepared for the Price Field Office planning area and is available for a 90-day public review and comment period. The Draft RMP/EIS may be viewed and downloaded in PDF format at the project Web site at www.pricermp.com. Copies of the Draft RMP/EIS will also be available for distribution and review during the comment period at the BLM Price Field Office, at the address shown below.

DATES: Written comments on the Draft RMP/EIS will be accepted October 14, 2004. Future public meetings and any other public-involvement activities will be announced at least 15 days in advance through public notices, local media news releases, mailings, and the project Web site at: www.pricermp.com. Locations of the public meetings are: Salt Lake City, Price, Green River, and Castle Dale, Utah.

ADDRESSES: Written comments should be sent to: Price Field Office RMP Comments, Attention: Floyd Johnson, Price Field Office, Bureau of Land Management, 125 South 600 West, Price, Utah 84501. Comments may also be made electronically at: www.pricermp.com. Comments, including names and addresses of respondents, will be available for public review at the BLM Price Field Office, 125 South 600 West, Price, Utah during normal business hours (8 a.m. to 4:30 p.m., except weekends and holidays).

FOR FURTHER INFORMATION CONTACT: For further information and/or to have your name added to the planning project mailing list, visit the Web site shown above. You may also contact Floyd Johnson, Assistant Field Manager, Bureau of Land Management, Price Field Office, 125 South 600 West, Price, Utah 84501, telephone: (435) 636-3600, or e-mail through the Web site: www.pricermp.com.

SUPPLEMENTARY INFORMATION: The planning area includes all of the public land and Federal mineral ownership managed by the Price Field Office in Carbon and Emery Counties, Utah. The planning area encompasses public lands currently managed under the Price River Resource Area Management Framework Plan and the San Rafael RMP. This area includes approximately 2.5 million acres of BLM-administered surface lands and 2.8 million acres of Federal mineral lands under Federal, State, and private surface in the area. The decisions of the Price RMP will only apply to BLM-administered public lands and Federal mineral estate. The Draft RMP/EIS addresses alternatives and provides management guidance, monitoring, and impact analysis of the alternatives. The alternatives present different management balances between the various resources and uses. This planning effort will replace the Price River Resource Area Management Framework Plan (1983, 1989) and the San Rafael RMP (1991). Once approved, the Record of Decision (ROD) for the Price Field Office RMP will supercede all existing management plans for the planning area. In order to receive full consideration, comments should focus on specific management actions being considered and the adequacy of analysis. All submissions from organizations or businesses will be made available for public inspection in their entirety. Individuals may request confidentiality with respect to their name, address, and phone number. If you wish to have your name or street address withheld from public review, or from disclosure under the Freedom of Information Act, the first line of the comment should start with the words “CONFIDENTIALITY REQUESTED” in uppercase letters in order for BLM to comply with your request. Such requests will be honored to the extent allowed by law. Comment contents will not be kept confidential. Responses to the comments will be published as part of the Final RMP/EIS. The Draft RMP/EIS contains five alternatives (including the No Action Alternative). Major issues considered are: management of recreation, travel planning and route designation, oil and gas resources, rangeland health, special designation areas, wildlife, and air and water quality. The area covered by the Price RMP contains coal resources that have been classified by the Bureau of Land Management to be included within a Known Recoverable Coal Resource Area. The 43 CFR 3420.1-2 provides an opportunity for the public to identify any interest in developing these resources; therefore the Bureau of Land Management is issuing a Call for Coal Information. Industry, State and local governments, or the general public is invited to submit information on lands within the Price Field Office that should be considered for leasing and describe why these lands should be considered. Proprietary data marked as confidential may be submitted in response to this call; however, all such proprietary data should be submitted only to James Kohler, Chief, Branch of Solid Minerals, Utah State Office, Bureau of Land Management, P.O. Box 45155, Salt Lake City, UT 84145-0155. Data marked as confidential shall be treated in accordance with the laws and regulations governing confidentiality of such information.

Gene R. Terland,
Associate State Director.

[FR Doc. 04-15894 Filed 7-15-04; 8:45 am]

BILLING CODE 4310-DQ-P